DEPARTMENT OF TRANSPORTATION

Federal Aviation Administration

14 CFR Part 97

[Docket No. 31028; Amdt. No. 3653]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 3, 2015. The compliance date for each SIAP, associated Takeoff Minimums, and ODP is specified in the amendatory provisions.

The incorporation by reference of certain publications listed in the regulations is approved by the Director of the Federal Register as of August 3, 2015.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97:

Air Traffic Control, Airports, Incorporation by reference, Navigation (air).

Issued in Washington, DC, on July 17, 2015.
John Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 August 2015

Russian Mission, AK, Russian Mission, RNAV (GPS) RWY 35, Orig-B

Tuscaloosa, AL, Tuscaloosa Rgnl, RNAV (GPS) RWY 12, Orig-A

Tuscaloosa, AL, Tuscaloosa Rgnl, RNAV (GPS) RWY 30, Orig-B

San Diego, CA, San Diego Intl, ILS or LOC RWY 9, Amdt 2

San Diego, CA, San Diego Intl, LOC RWY 27, Amdt 5C

San Diego, CA, San Diego Intl, RNAV (GPS) RWY 9, Amdt 1

San Diego, CA, San Diego Intl, RNAV (GPS) RWY 27, Amdt 3C

San Diego, CA, San Diego Intl, Takeoff Minimums and Obstacle DP, Amdt 8

Washington, DC, Ronald Reagan Washington National, RNAV (GPS) RWY 15, Orig

Washington, DC, Ronald Reagan Washington National, RNAV (GPS) RWY 33, Amdt 1

Washington, DC, Ronald Reagan Washington National, VOR RWY 15, Amdt 2

Washington, DC, Ronald Reagan Washington National, VOR RWY 19, Amdt 10

Atlanta, GA, Newnan Coweta County, ILS OR LOC/NDB RWY 32, Orig

Atlanta, GA, Newnan Coweta County, LOC RWY 32, Amdt 2, CANCELED

Millen, GA, Millen, RNAV (GPS) RWY 17, Amdt 2A

Millen, GA, Millen, RNAV (GPS) RWY 35, Amdt 1A

Millen, GA, Millen, Takeoff Minimums and Obstacle DP, Amdt 1

Vidalia, GA, Vidalia Rgnl, ILS OR LOC RWY 25, Amdt 2

Vidalia, GA, Vidalia Rgnl, RNAV (GPS) RWY 7, Orig

Vidalia, GA, Vidalia Rgnl, RNAV (GPS) RWY 25, Amdt 2

Vidalia, GA, Vidalia Rgnl, Takeoff Minimums and Obstacle DP, Amdt 2

Gary, IN, Gary/Chicago Intl, COPTER ILS OR LOC RWY 30, Amdt 1

Gary, IN, Gary/Chicago Intl, ILS OR LOC RWY 30, Amdt 6

Gary, IN, Gary/Chicago Intl, NDB RWY 30, Amdt 7D, CANCELED

Gary, IN, Gary/Chicago Intl, RNAV (GPS) Y RWY 30, Amdt 1

Gary, IN, Gary/Chicago Intl, RNAV (RNP) Z RWY 30, Amdt 1

Concordia, KS, Blosser Muni, NDB-A, Orig-A, CANCELED

Tribune, KS, Tribune Muni, RNAV (GPS) RWY 17, Orig

Tribune, KS, Tribune Muni, RNAV (GPS) RWY 35, Orig

Tribune, KS, Tribune Muni, Takeoff Minimums and Obstacle DP, Orig

Louisville, KY, Louisville Intl-Standiford Field, LOC RWY 29, Orig

Louisville, KY, Louisville Intl-Standiford Field, LOC RWY 29, Orig-B, CANCELED

Baton Rouge, LA, Baton Rouge Metropolitan, Ryan Field, ILS OR LOC RWY 13, Amdt 28

Baton Rouge, LA, Baton Rouge Metropolitan, Ryan Field, ILS OR LOC/DME RWY 22R, ILS RWY 22R (SA CAT I), ILS RWY 22R (SA CAT II), Amdt 12

Baton Rouge, LA, Baton Rouge Metropolitan, Ryan Field, NDB RWY 31, Amdt 3

Baton Rouge, LA, Baton Rouge Metropolitan, Ryan Field, RADAR-1, Amdt 11

Baton Rouge, LA, Baton Rouge Metropolitan, Ryan Field, RNAV (GPS) RWY 4L, Amdt 3

Baton Rouge, LA, Baton Rouge Metropolitan, Ryan Field, RNAV (GPS) RWY 13, Amdt 2

Baton Rouge, LA, Baton Rouge Metropolitan, Ryan Field, RNAV (GPS) RWY 22R, Amdt 3

Baton Rouge, LA, Baton Rouge Metropolitan, Ryan Field, RNAV (GPS) RWY 31, Amdt 2

Baton Rouge, LA, Baton Rouge Metropolitan, Ryan Field, VOR RWY 4L, Amdt 18

Baton Rouge, LA, Baton Rouge Metropolitan, Ryan Field, VOR/DME RWY 22R, Amdt 9

Majuro Atoll, MH, Marshall Islands Intl, NDB RWY 7, Amdt 1

Majuro Atoll, MH, Marshall Islands Intl, NDB RWY 25, Amdt 1

Lakeview, MI, Lakeview-Griffith Field, GPS RWY 9, Orig-A, CANCELED

Lakeview, MI, Lakeview-Griffith Field, GPS RWY 27, Orig-A, CANCELED

Lakeview, MI, Lakeview-Griffith Field, RNAV (GPS) RWY 10, Orig

Lakeview, MI, Lakeview-Griffith Field, RNAV (GPS) RWY 28, Orig

Mahnomen, MN, Mahnomen County, RNAV (GPS) RWY 17, Amdt 1

Mahnomen, MN, Mahnomen County, RNAV (GPS) RWY 35, Amdt 1

Walker, MN, Walker Muni, RNAV (GPS) RWY 15, Amdt 1

Walker, MN, Walker Muni, RNAV (GPS) RWY 33, Amdt 1

Excelsior Springs, MO, Excelsior Springs Memorial, Takeoff Minimums and Obstacle DP, Amdt 2

Excelsior Springs, MO, Excelsior Springs Memorial, VOR-A, Orig

Excelsior Springs, MO, Excelsior Springs Memorial, VOR OR GPS RWY 19, Amdt 1, CANCELED

Madison, MS, Bruce Campbell Field, RNAV (GPS) RWY 17, Amdt 1B

Madison, MS, Bruce Campbell Field, RNAV (GPS) RWY 35, Orig-B

Edgeley, ND, Edgeley Muni, RNAV (GPS) RWY 14, Orig

Edgeley, ND, Edgeley Muni, RNAV (GPS) RWY 32, Orig

Edgeley, ND, Edgeley Muni, Takeoff Minimums and Obstacle DP, Orig

Alma, NE., Alma Muni, RNAV (GPS) RWY 17, Orig

Alma, NE., Alma Muni, RNAV (GPS) RWY 35, Orig

Alma, NE., Alma Muni, Takeoff Minimums and Obstacle DP, Orig

Valentine, NE., Miller Field, RNAV (GPS) RWY 3, Orig-A

Newark, NJ, Newark Liberty Intl, RNAV (GPS) X RWY 29, Orig

West Creek, NJ, Eagles Nest, RNAV (GPS)-A, Orig

West Creek, NJ, Eagles Nest, RNAV (GPS)-B, Orig

West Creek, NJ, Eagles Nest, Takeoff Minimums and Obstacle DP, Orig

New York, NY, John F Kennedy Intl, ILS OR LOC RWY 13L, ILS RWY 13L (CAT II), Amdt 17

Oxford, OH, Miami University, NDB RWY 5, Amdt 11A, CANCELED

Millersburg, OH, Holmes County, GPS RWY 27, Orig, CANCELED

Millersburg, OH, Holmes County, RNAV (GPS) RWY 9, Orig

Millersburg, OH, Holmes County, RNAV (GPS) RWY 27, Orig

Millersburg, OH, Holmes County, Takeoff Minimums and Obstacle DP, Amdt 2

Millersburg, OH, Holmes County, VOR-A, Amdt 7

Redmond, OR, Roberts Field, RNAV (GPS) Y RWY 29, Amdt 2

Redmond, OR, Roberts Field, RNAV (GPS) Z RWY 29, Amdt 1

Brookings, SD, Brookings Rgnl, RNAV (GPS) RWY 12, Amdt 1A

Austin, TX, Austin-Bergstrom Intl, RNAV (GPS) Y RWY 17L, Amdt 1B

Austin, TX, Austin-Bergstrom Intl, RNAV (GPS) Y RWY 17R, Amdt 1B

Austin, TX, Austin-Bergstrom Intl, RNAV (GPS) Y RWY 35L, Amdt 1B

Austin, TX, Austin-Bergstrom Intl, RNAV (RNP) Z RWY 17L, Orig

Austin, TX, Austin-Bergstrom Intl, RNAV (RNP) Z RWY 17R, Orig

El Paso, TX, El Paso Intl, RNAV (GPS) RWY 26R, Orig

El Paso, TX, El Paso Intl, RNAV (GPS) RWY 26R, Orig-A, CANCELED

El Paso, TX, El Paso Intl, Takeoff Minimums and Obstacle DP, Amdt 8

Greenville, TX, Majors, ILS Y OR LOC/DME Y RWY 17, Amdt 1

Greenville, TX, Majors, ILS Z OR LOC/DME Z RWY 17, Amdt 8

Greenville, TX, Majors, RNAV (GPS) RWY 17, Amdt 2

San Angelo, TX, San Angelo Rgnl/Mathis Field, LOC BC RWY 21, Amdt 14A, CANCELED

Richfield, UT, Richfield Muni, RNAV (GPS) RWY 19, Amdt 1

Roanoke, VA, Roanoke Rgnl/Woodrum Field, RNAV (GPS) RWY 24, Amdt 1A

Hayward, WI, Sawyer County, ILS OR LOC/DME RWY 20, Orig

Hayward, WI, Sawyer County, LOC/DME RWY 20, Amdt 1C, CANCELED

Hayward, WI, Sawyer County, RNAV (GPS) RWY 20, Amdt 1

Hayward, WI, Sawyer County, Takeoff Minimums and Obstacle DP, Amdt 5

Rice Lake, WI, Rice Lake Regional—Carl's Field, VOR RWY 1, Amdt 1, CANCELED

Rice Lake, WI, Rice Lake Regional—Carl's Field, VOR/DME RWY 19, Amdt 1, CANCELED

Shell Lake, WI, Shell Lake Muni, VOR/DME RWY 32, Orig-A, CANCELED

Effective 17 September 2015

Hornell, NY, Hornell Muni, VOR/DME-A, Amdt 4A, CANCELED

[FR Doc. 2015-18731 Filed 7-31-15; 8:45 am]

BILLING CODE 4910-13-P